DEPARTMENT OF THE INTERIOR

Bureau of Reclamation

San Luis Unit Long-Term Contract Renewal

AGENCY: Bureau of Reclamation, Interior.

ACTION: Second extension of comment period for review of Draft Environmental Impact Statement (DEIS).

SUMMARY: The Bureau of Reclamation (Reclamation) is extending the comment period for the DEIS to April 3, 2006. The notice of availability of the DEIS was published in the Federal Register on September 30, 2005 (70 FR 57324). The public comment period was originally to end on November 21, 2005. A notice to extend the comment period to January 17, 2006 was published in the Federal Register on December 6, 2005 (70 FR 72652).

DATES: Submit comments on the DEIS on or before April 3, 2006.

ADDRESSES: Send comments on the DEIS to Mr. Shane Hunt, Bureau of Reclamation, South-Central California Area Office, 1243 N Street, Fresno, CA 93721. Comments may also be e-mailed to shunt@mp.usbr.gov. Copies of the DEIS may be requested by calling Mr. Hunt at 559-487-5138, TDD 559-487-5933.

FOR FURTHER INFORMATION CONTACT: Mr. Shane Hunt at 559-487-5138, TDD 559-487-5933.

SUPPLEMENTARY INFORMATION: This extension will allow Reclamation to prepare and release supplemental information as part of the review process for this action. Reclamation decided to prepare this supplemental information to address issues and concerns that have been identified following preparation of the DEIS. The supplemental information will be available February 2006, at least 45 days before the end of the comment period on the DEIS. The public and agencies will be able to review this information concurrently with the DEIS released October 7, 2005, and may provide comments on the DEIS and the supplemental information in a single response. The final environmental impact statement will consider and contain responses to all substantive comments received on the DEIS.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 3, 2006.
Frank Michny,
Regional Environmental Officer, Mid-Pacific Region.

[FR Doc. E6-796 Filed 1-23-06; 8:45 am]

BILLING CODE 4310-MN-P